DEPARTMENT OF COMMERCE

National Oceanic and Atmospheric Administration

[I.D. 060303B]

Marine Mammals; File No. 550-1712

AGENCY: National Marine Fisheries Service (NMFS), National Oceanic and Atmospheric Administration (NOAA), Commerce.

ACTION: Receipt of application.

SUMMARY: Notice is hereby given that Bernd Wursig, Ph.D., Professor and Director of the Institute of Marine Life Sciences, Texas A&M University, 4700 Avenue U, Building 303, Galveston, TX 77551, has applied in due form for a five-year permit to take bottlenose dolphins (Tursiops truncatus) for purposes of scientific research.

DATES: Written or telefaxed comments must be received on or before July 17, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Jill Lewandowski or Carrie Hubard, (301)713-2289.

SUPPLEMENTARY INFORMATION: The subject permit is requested under the authority of the Marine Mammal Protection Act of 1972, as amended (MMPA; 16 U.S.C. 1361 et seq.) and the Regulations Governing the Taking and Importing of Marine Mammals (50 CFR part 216).

The proposed research is a continuation of behavioral ecology studies of bottlenose dolphins in the Gulf of Mexico along the Texas and Louisiana coastline. The applicant is specifically requesting to take bottlenose dolphins by close approach for photo-id, behavioral observation and biopsy sampling. Proposed takes include 1,000 individuals for photo-identification and behavioral observation annually and 250 takes of juveniles/adults by biopsy sampling over the course of the Permit. Calves would not be biopsy sampled.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: June 11, 2003.
Stephen L. Leathery,
Chief, Permits, Conservation and Education Division, Office of Protected Resources, National Marine Fisheries Service.

[FR Doc. 03-15296 Filed 6-16-03; 8:45 am]

BILLING CODE 3510-22-S